DEPARTMENT OF ENERGY

Federal Energy Regulatory Commission

[Docket No. MT01-2-000]

Northern Natural Gas Company; Notice of Proposed Changes in FERC Gas Tariff

October 17, 2000.

Take notice that on October 11, 2000, Northern Natural Gas Company (Northern) tendered for filing to become part of Northern's FERC Gas Tariff, Fifth Revised Volume No. 1 the following tariff sheets to be effective October 11, 2000:

Third Revised Sheet No. 219

Sixth Revised Sheet No. 220

Northern states that the purpose of this filing is to remove Sections 17(a) and 17(b) of Northern's General Terms and Conditions of its Tariff in accordance with Order No. 637 which required that shared personnel and shared facilities be posted on a pipeline's internet website, update the reporting structure for its Pipeline Sales Division, and update the reference to electronic bulletin board personnel.

Northern states that copies of the filing were served upon Northern's customers and interested State Commissions.

Any person desiring to be heard or to protest said filing should file a motion to intervene or a protest with the Federal Energy Regulatory Commission, 888 First Street, N.E., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference room. This filing may be viewed on the web at http://www.ferc.fed.us/online/rims.htm (call 202-208-2222 for assistance).

David P. Boergers,
Secretary.

[FR Doc. 00-27089 Filed 10-20-00; 8:45 am]

BILLING CODE 6717-01-M